DEPARTMENT OF LABOR

Employment and Training Administration

[TA-W-51,749 and TA-W-51,749A]

Intel Corporation, Systems Manufacturing Technology Development, Hillsboro, OR, and Intel Corporation, Systems Manufacturing Technology Development, Dupont, WA; Notice of Termination of Investigation

Pursuant to section 221 of the Trade Act of 1974, an investigation was initiated on May 14, 2003 in response to a worker petition which was filed by a company official on behalf of workers at Intel Corporation, Systems Manufacturing Technology Development, Hillsboro, Oregon (TA-W-51,749) and Intel Corporation, Systems Manufacturing Technology Development, DuPont, Washington (TA-W-51,749A).

The petitioner has requested that the petition be withdrawn. Consequently, further investigation in this case would serve no purpose, and the investigation has been terminated.

Signed in Washington, DC, this 6th day of June, 2003.
Linda G. Poole,
Certifying Officer, Division of Trade Adjustment Assistance.

[FR Doc. 03-15485 Filed 6-18-03; 8:45 am]

BILLING CODE 4510-30-P